DEPARTMENT OF THE INTERIOR

Bureau of Indian Affairs

Tribal Consultation on Regional Organization Structure

AGENCY: Bureau of Indian Affairs, Interior.

ACTION: Notice of tribal consultation meetings.

SUMMARY: Notice is hereby given that the Bureau of Indian Affairs (BIA) will conduct consultation meetings to obtain oral and written comments concerning potential issues in the organizational structure of the BIA's twelve regional offices. Eighteen informational sessions were held throughout the country in June 2003 to brief employees, Indian tribes, and interested parties of the status and structure of the reorganization occurring in the Office of the Assistant Secretary—Indian Affairs, the Bureau of Indian Affairs and the Office of the Special Trustee. The upcoming consultations will provide an opportunity for Indian tribes and interested parties to provide comments regarding the organizational structure of the BIA's twelve regional offices for consideration by the Assistant Secretary—Indian Affairs.

DATES: Comments are due two weeks following the consultation for each region. The meeting dates will be September 24 through October 30, 2003 for all locations listed. Meeting times for all regions are listed.

ADDRESSES: Send, hand-deliver or fax written comments to Regional Office Director at applicable regional office.

FOR FURTHER INFORMATION CONTACT: Appropriate Regional Director or Denise Desiderio at 202-208-6772.

SUPPLEMENTARY INFORMATION: The purpose of the consultation is to provide Indian tribes and other interested parties with an opportunity to comment on potential issues raised by the realignment of regional structures as a result of the reorganization of the Assistant Secretary—Indian Affairs, Bureau of Indian Affairs and Office of the Special Trustee. A three-hour block of time will be allotted for Indian tribes and interested parties to comment on the organizational structure in their particular region.

Dates | Region(s) | Time
September 24, 2003 | Southern Plains, Michael R. Smith, Regional Director, Southern Plains Regional Office, Bureau of Indian Affairs, WCD Office Complex, P.O. Box 368, Anadarko, OK 73005, Telephone No: (405) 247-6673, Fax No: (405) 247-5611 | 9 a.m.-12 p.m.
September 24, 2003 | Eastern Oklahoma, Jeanette Hanna, Regional Director, Eastern Oklahoma Regional Office, Bureau of Indian Affairs, 3100 W. Peak Blvd., P.O. Box 8002, Muskogee, OK 74402-8002, Telephone No: (918) 781-4600, Fax No: (918) 781-4604 | 1:30 p.m.-4:30 p.m.
September 25, 2003 | Midwest, Larry Morrin, Regional Director, Midwest Regional Office, Bureau of Indian Affairs, One Federal Drive, Room 550, Ft. Snelling, MN 55111-4007, Telephone No: (612) 713-4400, Fax No: (612) 713-4401 | 9 a.m.-12 p.m.
September 25, 2003 | Eastern, Franklin Keel, Regional Director, Eastern Regional Office, Bureau of Indian Affairs, 711 Stewarts Ferry Pike, Nashville, TN 37214, Telephone No: (615) 467-1700, Fax No: (615) 467-1701 | 1:30 p.m.-4:30 p.m.
All meetings scheduled for September 24-25 will be held at the Hilton Garden Inn—Tulsa Airport, 7728 East Virgin Court, Tulsa, Oklahoma 74115, telephone (918) 838-1444.
October 27, 2003 | Great Plains, William Benjamin, Acting Regional Director, Great Plains Regional Office, Bureau of Indian Affairs, 115 4th Avenue, SE, Aberdeen, SD 57401, Telephone No: (605) 226-7343, Fax No: (605) 226-7446 | 9 a.m.-12 p.m.
October 27, 2003 | Rocky Mountain, Keith Beartusk, Regional Director, Rocky Mountain Regional Office, Bureau of Indian Affairs, 316 N. 26th Street, Billings, MT 59101, Telephone No: (406) 247-7943, Fax No: (406) 247-7976 | 1:30 p.m.-4:30 p.m.
October 28, 2003 | Southwest, Rob Baracker, Regional Director, Southwest Regional Office, Bureau of Indian Affairs, P.O. Box 26567, Albuquerque, NM 87125, Telephone No: (505) 346-7590, Fax No: (505) 346-7517 | 9 a.m.-12 p.m.
October 28, 2003 | Navajo, Elouise Chicharello, Regional Director, Navajo Regional Office, Bureau of Indian Affairs, P.O. Box 1060, Gallup, NM 87305, Telephone No: (505) 863-8314, Fax No: (505) 863-8324 | 1:30 p.m.-4:30 p.m.
October 29, 2003 | Pacific, Clay Gregory, Acting Regional Director, Pacific Regional Office, Bureau of Indian Affairs, 2800 Cottage Way, Sacramento, CA 95825, Telephone No: (916) 978-6000, Fax No: (916) 978-6099 | 9 a.m.-12 p.m.
October 29, 2003 | Northwest, Stanley Speaks, Regional Director, Northwest Regional Office, Bureau of Indian Affairs, 911 NE 11th Avenue, Portland, OR 97232, Telephone No: (503) 231-6702, Fax No: (503) 231-2201 | 1:30 p.m.-4:30 p.m.
October 30, 2003 | Western, Wayne Nordwall, Regional Director, Western Regional Office, Bureau of Indian Affairs, P.O. Box 10, Phoenix, AZ 85001, Telephone No: (602), 379-6600, Fax No: (602) 379-4413 | 9 a.m.-12 p.m.
October 30, 2003 | Alaska, Niles C. Cesar, Regional Director, Alaska Regional Office, Bureau of Indian Affairs, P.O. Box 25520, Juneau, AK 99802-5520, Telephone No. (800) 645-8397, Fax No. (907) 586-7252 | 1:30 a.m.-4:30 p.m.
All meetings scheduled for October 27-30 will be held at the MGM Hotel, 3799 Las Vegas Blvd, Las Vegas, Nevada 89109, telephone (702) 891-1111.

Individual respondents may request confidentiality. If you wish us to withhold your name, street address, and other contact information (such as facsimile or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Assistant Secretary—Indian Affairs by 209 DM 8.1.

Dated: September 10, 2003.
Aurene M. Martin,
Principal Deputy Assistant Secretary—Indian Affairs.

[FR Doc. 03-23628 Filed 9-16-03; 8:45 am]

BILLING CODE 4310-4K-P